DEPARTMENT OF ENERGY

Federal Energy Regulatory Commission

[Docket Nos. CP17-20-001, CP17-21-002, CP18-7-001]

Port Arthur LNG, LLC, Port Arthur Pipeline, LLC; Notice Granting Intervention

On August 2, 2022, the Commission issued notice of Port Arthur LNG, LLC and Port Arthur Pipeline, LLC's (jointly, Port Arthur) request for an extension of time to complete construction of and make available for service the Port Arthur LNG Terminal and the non-integrated Louisiana Connector Project and Texas Connector Project. The notice established August 17, 2022, as the deadline for filing motions to intervene.

On August 17, 2022, the Sierra Club filed a timely motion to intervene and protest the extension of time request. Port Arthur opposes this motion, stating that Sierra Club has not shown it will be directly affected by the outcome of the proceeding nor that its participation is in the public interest.¹ Pursuant to Rule 214(c)(2) of the Commission's Rules of Practice and Procedure, if an answer in opposition to a timely motion to intervene is filed within 15 days after the motion to intervene is filed, the movant becomes a party only when the motion is expressly granted.²

¹ Port Arthur LNG, LLC et al. September 1, 2022 Answer Opposing Motion to Intervene in Docket No. CP17-20-001 et al.

² 18 CFR 385.214(c)(2) (2021).

The Sierra Club's motion to intervene was timely filed on August 17, 2022, and it demonstrates that the Sierra Club has interests that may be directly affected by the outcome of the extension of time proceeding. Moreover, allowing the intervention will not cause any additional burden upon the existing parties and is thus in the public interest. The Sierra Club's motion to intervene is granted.

This notice constitutes final agency action. Requests for rehearing of this notice must be filed within 30 days of the date of issuance of this notice, pursuant to section 313(a) of the Federal Power Act, 16 U.S.C. 825l(a), and Rule 713 of the Commission's Rules of Practice and Procedure, 18 CFR 385.713.

Dated: September 21, 2022.
Debbie-Anne A. Reese,
Deputy Secretary.

[FR Doc. 2022-20878 Filed 9-26-22; 8:45 am]

BILLING CODE 6717-01-P